DEPARTMENT OF ENERGY

Federal Energy Regulatory Commission

[Docket No. RP23-968-000]

Elwood Energy LLC v. ANR Pipeline Company; Notice of Withdrawal of Complaint

Take notice that the sole complainant in this proceeding, Elwood Energy LLC, filed an unopposed notice of withdrawal of its complaint on April 10, 2025. On April 25, 2025, ANR Pipeline Company filed comments supporting the withdrawal. In the absence of a motion in opposition or a Commission order disallowing the withdrawal, the withdrawal became effective on April 25, 2025, by operation of Rule 216(b) of the Commission's Rules of Practice and Procedure, 18 CFR 385.216(b) (2024). Accordingly, this proceeding is terminated.

Dated: May 21, 2025.
Debbie-Anne A. Reese,
Secretary.

[FR Doc. 2025-09606 Filed 5-28-25; 8:45 am]

BILLING CODE 6717-01-P